SECURITIES AND EXCHANGE COMMISSION

Sunshine Act Meeting

Federal Register CITATION OF PREVIOUS ANNOUNCEMENT: [TBD]

STATUS: Closed Meeting.

PLACE: 100 F Street NE., Washington, DC.

DATE AND TIME OF PREVIOUSLY ANNOUNCED MEETING: November 15, 2012 at 10:00 a.m.

CHANGE IN THE MEETING: Additional Items.

The following matters will also be considered during the 10:00 a.m. Closed Meeting scheduled for Thursday, November 15, 2012: Other matters related to enforcement proceedings.

The General Counsel of the Commission, or his designee, has certified that, in his opinion, one or more of the exemptions as set forth in 5 U.S.C. 552b(c)(3), (5), (7), 9(B) and (10) and 17 CFR 200.402(a)(3), (5), (7), (9)(ii) and (10), permit consideration of the scheduled matters at the Closed Meeting.

Commissioner Aguilar, as duty officer, voted to consider the item listed for the Closed Meeting in closed session.

At times, changes in Commission priorities require alterations in the scheduling of meeting items. For further information and to ascertain what, if any, matters have been added, deleted or postponed, please contact the Office of the Secretary at (202) 551-5400.

Dated: November 8, 2012.
Elizabeth M. Murphy,
Secretary.

[FR Doc. 2012-27647 Filed 11-8-12; 4:15 pm]

BILLING CODE 8011-01-P